DEPARTMENT OF HOUSING AND URBAN DEVELOPMENT

[Docket No. FR-5837-N-05]

60-Day Notice of Proposed Information Collection: Statutorily-Mandated Collection of Information for Tenants in LIHTC Properties

AGENCY: Office of the Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 16, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Statutorily-Mandated Collection of Information for Tenants in LIHTC Properties.

OMB Approval Number: 2528-0165.

Type of Request: Revision.

Form Number: HUD-52695 (HUD LIHTC Database Data Collection Form); HUD-52697 (HUD LIHTC Tenant Data Collection Form).

Description of the need for the information and proposed use: Section 2835(d) of the Housing and Economic Recovery Act, or HERA, (Pub. L. 110-289, approved July 30, 2008) amends Title I of the U.S. Housing Act of 1937 (42 U.S.C. 1437 et seq.) (1937 Act) to add a new section 36 (codified as 42 U.S.C. 1437z-8) that requires each state agency administering tax credits under section 42 of the Internal Revenue Code of 1986 (low-income housing tax credits or LIHTC) to furnish HUD, not less than annually, information concerning the race, ethnicity, family composition, age, income, use of rental assistance under section 8(o) of the U.S. Housing Act of 1937 or other similar assistance, disability status, and monthly rental payments of households residing in each property receiving such credits through such agency.

New section 36 requires HUD to establish standards and definitions for the information to be collected by state agencies and to provide states with technical assistance in establishing systems to compile and submit such information and, in coordination with other federal agencies administering housing programs, establish procedures to minimize duplicative reporting requirements for properties assisted under multiple housing programs. In 2010, OMB approved the first collection instrument used for the collection of LIHTC household information (expiration date 05/31/2013). HUD used the previously approved form to collect data on LIHTC tenants in 2010, 2011 and 2012. The form was approved with minor changes in 2013 with an expiration of 6/30/2016. Renewal of this form is required for HUD to remain in compliance with the statute.

Respondents: State and local LIHTC administering agencies.

Estimated Number of Respondents: 59.

Estimated Number of Responses: 118.

Frequency of Response: Annual.

Average Hours per Response: 48.

Total Estimated Burdens: 2,832 hours.

Information collection | Number of respondents | Frequency of response | Responses per annum | Burden hour per response | Annual burden hours | Hourly cost per response | Annual cost
52695 (Tenant) | 59 | 1 | 1 | 40 | 2360 | $34.02 | $80,287
52697 (Property) | 59 | 1 | 1 | 8 | 472 | 34.02 | 16,057
Total |  |  |  | 48 | 2,832 |  | 96,344

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: December 8, 2015.
Katherine M. O'Regan,
Assistant Secretary for Policy Development and Research.

[FR Doc. 2015-31505 Filed 12-14-15; 8:45 am]

BILLING CODE 4210-67-P